DEPARTMENT OF TRANSPORTATION

Federal Aviation Administration

Approval of Amendment to Noise Compatibility Program Mobile Regional Airport, Mobile, AL

AGENCY: Federal Aviation Administration, DOT.

ACTION: Notice.

SUMMARY: The Federal Aviation Administration (FAA) announces its findings on the Noise Compatibility Program submitted by the Mobile Airport Authority under the provisions of 49 U.S.C. (the Aviation Safety and Noise Abatement Act, hereinafter referred to as “the Act”) and 14 CFR Part 150. These findings are made in recognition of the description of Federal and non-Federal responsibilities in Senate Report No. 96-52 (1980). On May 1, 2006, the FAA determined that the noise exposure maps submitted by the Mobile Airport Authority under Part 150 were in compliance with applicable requirements. On October 26, 2006, the FAA approved the Mobile Regional Airport noise compatibility program. Most of the recommendations of the program were approved. On August 29, 2008, the Mobile Airport Authority requested approval to revise two of the ten approved proposed action measures.

Effective Date: The effective date of the FAA's approval of the Mobile Regional Airport Noise Compatibility Program Update is February 18, 2009.

FOR FURTHER INFORMATION CONTACT: Kevin Morgan, Federal Aviation Administration, Jackson Airports District Office, 100 West Cross Street, Suite B, Jackson, Mississippi 39208-2307, phone number: (601) 664-9891. Documents reflecting this FAA action may be reviewed at this same location.

SUPPLEMENTARY INFORMATION: This notice announces that the FAA has given its overall approval to the Noise Compatibility Program Update for Mobile Regional Airport, effective February 18, 2009.

Under Section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Title 14 Code of Federal Regulations (CFR) Part 150 is a local program, not a Federal Program. The FAA does not substitute its judgment for that of the airport operator with respect to which measure should be recommended for action. The FAA's approval or disapproval of 14 CFR Part 150 program recommendations is measured according to the standards expressed in 14 CFR Part 150 and the Act, and is limited to the following determinations:

a. The Noise Compatibility Program was developed in accordance with the provisions and procedures of 14 CFR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in 14 CFR Part 150, Section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Jackson, Mississippi.

Mobile Airport Authority submitted to the FAA on December 30, 2005, the Noise Exposure Maps, descriptions, and other documentation produced during the noise compatibility planning study conducted from 2003, through December 2005. The Mobile Regional Airport Noise Exposure Maps were determined by FAA to be in compliance with applicable requirements on May 1, 2006. Notice of this determination was published in the Federal Register on May 18, 2006.

The Mobile Regional Airport study contains a proposed Noise Compatibility Program comprised of actions designed for phased implementation by airport management and adjacent jurisdictions from the 2006 to 2011 and beyond. It was requested that FAA evaluate and approve an amendment to this material as a Noise Compatibility Program as described in Section 47504 of the Act.

The FAA began its review of the updated Program on August 29, 2008, and was required by a provision of the Act to approve or disapprove the program within 180-days (other than the use of new or modified flight procedures for noise control). Failure to approve or disapprove such program within the 180-day period shall be deemed to be an approval of such program.

The submitted amended program contained two (2) revised proposed actions for noise mitigation off the airport. The FAA completed its review and determined that the procedural and substantive requirements of the Act and 14 CFR Part 150 have been satisfied. The updated program, therefore, was approved by the FAA effective February 18, 2009.

Outright approval was granted for both of the revised specific program elements.

These determinations are set forth in detail in a Record of Approval Amendment signed by the FAA on February 18, 2009. The Record of Approval Amendment, as well as other evaluation materials and the documents comprising the submittal, are available for review at the FAA office listed above and at the administrative office of the Mobile Airport Authority. The Record of Approval Amendment also will be available on-line at: http://www.faa.gov/airports_airtraffic/airports/environmental/airport_noise/part_150/states/.

Issued in Jackson, Mississippi on February 23, 2009.
Rans Black,
Manager, Jackson Airports District Office, Southern Region.

[FR Doc. E9-4349 Filed 2-27-09; 8:45 am]

BILLING CODE 4910-13-P